SECURITIES AND EXCHANGE COMMISSION

[File No. 500-1]

In the Matter of WSF Corporation; Order of Suspension of Trading

January 3, 2002.

It appears to the Securities and Exchange Commission that there is a lack of current and accurate information concerning the securities of WSF Corporation (“WSF”), a Delaware corporation headquartered in Honolulu, Hawaii. Questions have been raised about the adequacy and accuracy of publicly disseminated information because WSF has not filed its required periodic reports for any period subsequent to the quarter ended September 30, 2000. Moreover, WSF management has informed the Commission staff that WSF still has not retained a public auditor for its financial statements for the fiscal year ended December 31, 2000.

The Commission is of the opinion that the public interest and the protection of investors require a suspension of trading in the securities of the above listed company.

Therefore, it is ordered, pursuant to Section 12(k) of the Securities Exchange Act of 1934, that trading in the above listed company is suspended for the period from 9:30 a.m. EST on January 3, 2002, through 11:59 p.m. EST on January 16, 2002.

By the Commission.
Margaret H. McFarland,
Deputy Secretary.

[FR Doc. 02-399 Filed 1-3-02; 11:55 am]

BILLING CODE 8010-01-M